DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Certified Organic Survey. Revision to burden hours will be needed due to changes in the size of the target population, sampling design, and/or questionnaire length.

DATES: Comments on this notice must be received by May 16, 2014 to be assured of consideration.

ADDRESSES: You may submit comments, identified by docket number 0535-0249, by any of the following methods:

• Email: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: Joseph T. Reilly, Associate Administrator, National Agricultural Statistics Service, U.S. Department of Agriculture, (202) 720-4333. Copies of this information collection and related instructions can be obtained without charge from David Hancock, NASS Clearance Officer, at (202) 690-2388.

SUPPLEMENTARY INFORMATION:

Title: Certified Organic Survey.

OMB Control Number: 0535-0249.

Expiration Date of Previous Approval: July 31, 2014.

Type of Request: To revise and extend a currently approved information collection for a period of three years.

Abstract: The primary objective of the National Agricultural Statistics Service (NASS) is to prepare and issue State and national estimates of crop and livestock production, prices, and disposition as well as economic statistics, farm numbers, land values, on-farm pesticide usage, pest crop management practices, as well as the Census of Agriculture. In 2009, NASS conducted the 2008 Organic Production Survey (OMB # 0535-0249). This was originally designed to be conducted once every five years as a follow-on-survey to the Census of Agriculture. The USDA Risk Management Agency (RMA) has made a formal agreement with NASS to conduct this as an annual survey, as funding permits, with a rotation of crops. The name of this docket will be changed to Certified Organic Survey. The reference year is the production year previous to the data collection year.

The census-based survey will include all known farm operators who produce organically certified crops and/or livestock. The survey will be conducted in all States. Some operational level data will be collected to use in classifying each operation for summary purposes. The majority of the questions will involve production data (acres planted, acres harvested, quantity harvested, quantity sold, value of sale, etc.), production expenses, and marketing practices.

Approximately 14,000 operations will be contacted by mail in early January, with a second mailing later in the month to non-respondents. Telephone and personal enumeration will be used for remaining non-response follow up. The National Agricultural Statistics Service will publish summaries in October at both the State level and for each major organic commodity when possible. Some State level data may need to be published on regional or national level due to confidentiality rules.

Under the 2014 Farm Bill (Section 11023) some of the duties of the Federal Crop Insurance Corporation (FCIC) are defined as “(i) IN GENERAL— As soon as possible, but not later than the 2015 reinsurance year, the Corporation shall offer producers of organic crops price elections for all organic crops produced in compliance with standards issued by the Department of Agriculture under the national organic program established under the Organic Foods Production Act of 1990 (7 U.S.C. 6501 et seq.) that reflect the actual retail or wholesale prices, as appropriate, received by producers for organic crops, as determined by the Secretary using all relevant sources of information. “(ii) ANNUAL REPORT.— The Corporation shall submit to the Committee on Agriculture of the House of Representatives and the Committee on Agriculture, Nutrition, and Forestry of the Senate an annual report on progress made in developing and improving Federal crop insurance for organic crops, including—“(I) the numbers and varieties of organic crops insured; “(II) the progress of implementing the price elections required under this subparagraph, including the rate at which additional price elections are adopted for organic crops; “(III) the development of new insurance approaches relevant to organic producers; and “(IV) any recommendations the Corporation considers appropriate to improve Federal crop insurance coverage for organic crops.”.

Authority: These data will be collected under the authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Public reporting burden for this collection of information is estimated to average 30 minutes per response.

Respondents: Farmers and Ranchers.

Estimated Number of Respondents: 14,000.

Estimated Total Annual Burden on Respondents: 8,000 hours (based on an estimated 80% response rate, using 2 mail attempts, followed by phone and personal enumeration for non-respondents).

Comments: Comments are invited on: (a) Whether the proposed collection of information is necessary for the proper performance of the functions of the agency, including whether the information will have practical utility; (b) The accuracy of the agency's estimate of the burden of the proposed collection of information including the validity of the methodology and assumptions used; (c) Ways to enhance the quality, utility, and clarity of the information to be collected; and (d) Ways to minimize the burden of the collection of information on those who are to respond, including through the use of appropriate automated, electronic, mechanical, technological or other forms of information technology collection methods.

All responses to this notice will become a matter of public record and be summarized in the request for OMB approval.

Signed at Washington, DC, February 27, 2014.
Joseph T. Reilly,
Associate Administrator.

[FR Doc. 2014-05843 Filed 3-14-14; 8:45 am]

BILLING CODE 3410-20-P